DEPARTMENT OF AGRICULTURE

Submission for OMB Review; Comment Request

September 23, 2020.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 28, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Institute of Food and Agriculture

Title: Children, Youth, and Families at Risk (CYFAR) Year End Report.

OMB Control Number: 0524-0043.

Summary of Collection: Funding for the Children, Youth, and Families at Risk (CYFAR) is authorized under section 3(d) of the Smith-Lever Act (7 U.S.C. 341 et seq.), as amended and other relevant authorizing legislation, which provides jurisdictional basis for the establishment and operation of extension educational work for the benefit of youth and families in communities. The CYFAR funding program supports community-based programs serving children, youth, and families in at risk environments. CYFAR funds are intended to support the development of high quality, effective programs based on research and to document the impact of these programs on intended audiences which are children, youth, and families in at-risk environments.

Need and Use of the Information: The purpose of the CYFAR Year End Report is to collect the demographic and impact data from each community site in order to evaluate the impact of the programs on intended audiences. Data from the CYFAR annual reports helps National Program Leaders at the National Institute of Food and Agriculture (NIFA) to refine and improve program focus and effectiveness in the delivery of these funds. The CYFAR data is also used to respond to requests for impact information from Congress, the White House, and other Federal agencies. Without the information NIFA would not be able to verify if CYFAR programs are reaching at risk, low-income audiences.

Description of Respondents: State, Local or Tribal Government.

Number of Respondents: 51.

Frequency of Responses: Reporting: Annually.

Total Burden Hours: 16,422.

Ruth Brown,
Departmental Information Collection Clearance Officer.

[FR Doc. 2020-21354 Filed 9-25-20; 8:45 am]

BILLING CODE 3410-09-P